DEPARTMENT OF ENERGY

Energy Information Administration

Agency Information Collection Activities: Proposed Collection; Comment Request

AGENCY: Energy Information Administration (EIA), Department of Energy (DOE).

ACTION: Agency information collection activities: proposed collection; comment request.

SUMMARY: The EIA is soliciting comments on the proposed changes and three-year extension to the Form EIA-851A, “Domestic Uranium Production Report (Annual),” Form EIA-851Q, “Domestic Uranium Production Report (Quarterly),” and Form EIA-858, “Uranium Marketing Annual Survey.”

DATES: Comments must be filed by June 30, 2006. If you anticipate difficulty in submitting comments within that period, contact the person listed below as soon as possible.

ADDRESSES: Send comments to Douglas Bonnar. To ensure receipt of the comments by the due date, submission by FAX (202-287-1944) or e-mail (douglas.bonnar@eia.doe.gov) is recommended. The mailing address is U.S. Department of Energy, EI-52, Forrestal Building, U.S. Department of Energy, telephone at (202-287-1911).

FOR FURTHER INFORMATION CONTACT: Requests for additional information or copies of any forms and instructions should be directed to Douglas Bonnar at the address listed above.

SUPPLEMENTARY INFORMATION:

I. Background

II. Current Actions

III. Request for Comments

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under Section 3507(a) of the Paperwork Reduction Act of 1995.

Form EIA-851A collects data on uranium milling and processing, uranium feed sources, employment, drilling, expenditures (for drilling, production, and land/other), and uranium mining. Currently, the reporting burden is estimated to average 2 hours per response. The data are used by public and private analysts and policy makers to monitor the domestic uranium mining and milling industry. Form EIA-851A is completed by uranium producers and firms with uranium exploration, drilling, mining, and reclamation activities in the U.S. (that is, within the 50 States, District of Columbia, Puerto Rico, the Virgin Islands, Guam, and other U.S. possessions) during the survey year. Published data appear on the EIA Web site at http://www.eia.doe.gov/cneaf/nuclear/dupr/dupr.html.

Form EIA-851Q collects data on monthly uranium production and sources (mines and other). Currently, the reporting burden is estimated to average 0.75 hours per response. The data are used by public and private analysts, the Department of Commerce's International Trade Administration and policy makers to monitor the domestic uranium mining industry. U.S. uranium producers report on the EIA-851Q. Published data appear in the EIA Web site on http://www.eia.doe.gov/cneaf/nuclear/dupr/qupd.html.

Form EIA-858 collects data on contracts, deliveries (during the report year and projected for the next ten years), enrichment services purchased, inventories, use in fuel assemblies, feed deliveries to enrichers (during the report year and projected for the next ten years), and unfilled market requirements for the next ten years. Currently, the reporting burden is estimated to average 14 hours per response. The data are used by public and private analysts and policy makers to monitor the domestic uranium market. Form EIA-858 is completed by uranium suppliers and owners and operators of U.S. civilian nuclear power reactors firms and individuals that were involved in the U.S. uranium industry (that is, within the 50 States, District of Columbia, Puerto Rico, the Virgin Islands, Guam, and other U.S. possessions) during the survey year. Published data appear in the EIA Web site on http://www.eia.doe.gov/cneaf/nuclear/umar/umar.html.

II. Current Actions

EIA will be requesting a three-year extension of approval to its 3 uranium surveys with the following 2 survey changes.

Form EIA-851A “Domestic Uranium Production Report (Annual)”: EIA proposes slightly increasing the collection of details related to four of the seven current data items, (Item 1: Facility Information; Item 2: Milling and Processing; Item 3: Feed Source; Item 4: Mine Production; Item 5: Employment; Item 6: Drilling; and Item 7: Expenditures.) The annual burden associated with the collection of this additional detail would be increased by 1 hour for an estimated average 3 hours per response.

Specifically, EIA proposes the additional detail of mine production by mine name, by type, by capacity, by State, and by owner in Item 4; employment by State in Item 5; by exploration drilling and by development drilling in Item 6; and land, exploration, and reclamation expenditures in Item 7. These details were not collected previously because of the small U.S. production industry, and this increase in burden is minimal. Items 1 through 3 will not collect additional detail information.

Form EIA-858 “Uranium Marketing Annual Survey”: EIA proposes collecting one new data price (Average-Price per Separative Work Unit (SWU)) in Item 2: Enrichment Services Purchased by Owners and Operators of Civilian Nuclear Power Reactors. The annual burden would be increased by 1 hour for an estimated average 15 hours per response.

The term “SWU” stands for “Separative Work Unit”. It is a measure of the amount of work (energy) that is required to separate raw uranium into two components—a valuable component (U235) and a waste component (U238). Generally speaking, the more SWUs that are expended in the separation process, the greater the degree of efficiency of separation; and the less valuable material (U235) that is lost in the U238 waste stream. However, the energy that goes into separating uranium has a cost associated with it.

EIA already collects information on raw uranium price and quantities purchased. However, this provides only a partial picture of the market. EIA now proposes to collect average SWU price data from nuclear electric utilities on an annual basis because this information is critical to understanding the overall dynamics and underlying fundamentals of the current nuclear fuels market and utility choices.

III. Request for Comments

Prospective respondents and other interested parties should comment on the actions discussed in item II. The following guidelines are provided to assist in the preparation of comments. Please indicate to which form(s) your comments apply.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. Can the information be submitted by the due date?

D. Public reporting burden for this collection is estimated to average 3 hours per response for Form EIA-851A, 0.75 hours per response for Form EIA-851Q, and 15 hours per response for Form EIA-858. The estimated burden includes the total time necessary to provide the requested information. In your opinion, how accurate is this estimate?

E. The agency estimates that the only cost to a respondent is for the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information To Be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the form. They also will become a matter of public record.

Statutory Authority: Section 3507(h)(1) of the Paperwork Reduction Act of 1995 (Pub. L. 104-13, 44 U.S.C. Chapter 35).

Issued in Washington, DC, April 19, 2006. .
Jay H. Casselberry,
Agency Clearance Officer, Energy Information Administration.

[FR Doc. E6-6529 Filed 4-28-06; 8:45 am]

BILLING CODE 6450-01-P